DEPARTMENT OF THE INTERIOR

Bureau of Land Management

[LLES962000 L14200000.B0000 15X]

Eastern States: Filing of Plats of Survey

AGENCY: Bureau of Land Management, Interior.

ACTION: Notice of Filing of Plats of Survey; Maryland.

SUMMARY: The Bureau of Land Management (BLM) will officially file the plats of survey of the lands described below in the BLM-Eastern States Office, Washington DC at least 30 calendar days from the date of publication in the Federal Register.

FOR FURTHER INFORMATION CONTACT: Bureau of Land Management, Eastern States Office, 20 M Street SE., Washington DC, 20003. Attn: Cadastral Survey. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was requested by the Bureau of Land Management.

The lands surveyed are:

Charles County, Maryland

The plat of survey represents the dependent resurvey of the northerly boundary of the Douglas Point Property, described as parcel “A” in the Special Warranty Deed recorded in Liber 3414, Folio 315 of the land records of Charles County, in the State of Maryland.

We will place a copy of the plats we described in the open files. They will be available to the public as a matter of information.

If BLM receives a protest against these surveys, as shown on the plats, prior to the date of the official filing, we will stay the filing pending our consideration of the protest.

We will not officially file the plats until the day after we have accepted or dismissed all protests and they have become final, including decisions on appeals.

Dated: October 15, 2015.
Dominica VanKoten,
Chief Cadastral Surveyor.

[FR Doc. 2015-26851 Filed 10-21-15; 8:45 am]

BILLING CODE P